DEPARTMENT OF HOUSING AND URBAN DEVELOPMENT

[Docket No. FR-5044-N-15]

Notice of Submission of Proposed Information Collection to OMB; Section 8 Management Assessment Program (SEMAP)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 30, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000; e-mail Aneita_L._Waites@HUD.gov. This is not a toll-free number. Copies of the proposed forms and other available documents may be obtained from Ms. Waites.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Section 8 Management Assessment Program (SEMAP).

OMB Approval Number: 2577-0215.

Form Numbers: HUD-42648.

Description of the Need for the Information and its Proposed Use: HUD will use public housing agency annual SEMAP certificates to rate and assess PHA management capabilities and deficiencies in key program areas. PHAs designated as troubled must implement plans for improvements.

Members of the Affected Public: Respondents: State, Local, or Tribal Governments.

Frequency of Submission: Annually.

| Number of respondents | × | Frequency of response | × | Hours per response | = | Burden hours
Reporting Burden | 2,565 |  | 1 |  | 13.5 |  | 34,720

Total Estimated Burden Hours: 34,720.

Status: Extension of a currently approved collection.

Authority: Section 3507 of the Paperwork Reduction Act of 1995, 44 U.S.C. 35, as amended.

Dated: August 24, 2006.
Merrie Nichols-Dixon,
Acting Deputy Assistant Secretary, Policy, Program and Legislative Initiatives.

[FR Doc. 06-7361 Filed 8-30-06; 8:45 am]

BILLING CODE 4210-67-P